DEPARTMENT OF ENERGY

[OE Docket No. PP-443]

Application for Presidential Permit; GridAmerica Holdings Inc.

AGENCY: Office of Electricity Delivery and Energy Reliability, DOE.

ACTION: Notice of application.

SUMMARY: GridAmerica Holdings Inc. (GridAmerica) has applied for a Presidential permit to construct, operate, maintain, and connect an electric transmission line across the United States border with Canada.

DATES: Comments must be submitted on or before April 2, 2018.

ADDRESSES: Comments should be addressed as follows: Office of Electricity Delivery and Energy Reliability (OE-20), U.S. Department of Energy, 1000 Independence Avenue SW, Washington, DC 20585.

FOR FURTHER INFORMATION CONTACT: Christopher Lawrence (Program Office) at 202-586-5260 or via electronic mail at Christopher.Lawrence@hq.doe.gov; Rishi Garg (Program Attorney) at 202-586-0258.

SUPPLEMENTARY INFORMATION: The construction, operation, maintenance, and connection of facilities at the international border of the United States for the transmission of electric energy between the United States and a foreign country is prohibited in the absence of a Presidential permit issued pursuant to Executive Order (E.O.) 10485, as amended by E.O. 12038.

On December 22, 2017, GridAmerica filed an application with the Office of Electricity Delivery and Energy Reliability (OE) of the Department of Energy (DOE) for a Presidential permit for the Granite State Power Link Project (GSPL Project). GridAmerica is a direct wholly owned unregulated subsidiary of National Grid USA (“National Grid USA” and its subsidiaries, collectively, “National Grid”). The Applicant has its principal place of business in Waltham, MA.

GridAmerica proposes to construct, operate, maintain and connect a 1,200 megawatt (MW) overhead high voltage direct current (HVDC) transmission cable system to deliver electricity from Quebec. The GSPL Project will consist of new electric transmission facilities between the Canadian Provence of Quebec and Monroe, New Hampshire. From the U.S. border, two new 315 kilovolt (kV) overhead double circuit alternating current (AC) lines, supported by a single structure, will extend from the international border between Canada and the United States for approximately 0.5 miles to an alternating current/direct current (AC/DC) converter station located in Norton, Vermont. A new ±400kV overhead High Voltage Direct Current (HVDC) electric transmission line will connect the new Norton Converter Station to a new DC/AC converter station located in Monroe, New Hampshire. The path of the transmission line will parallel the right-of-way of an existing Quebec-New England HVDC line. From the Monroe Converter station, a new single circuit 345kV line will extend approximately 215 feet to a new substation constructed by New England Power where it will then interconnect into the New England electric grid. The proposed GSPL Line will extend a distance of approximately 59 miles from the U.S.-Canada border to Monroe, NH.

Since the restructuring of the electric industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the Federal Power Act and articulated in Federal Energy Regulatory Commission (FERC) Order No. 888, (Promoting Wholesale Competition Through Open Access Non-Discriminatory Transmission Services by Public Utilities), 61 FR 21,540 (May 10, 1996), as amended.

Procedural Matters: Any person may comment on this application by filing such comment at the mailing address or by emailing Christopher Lawrence at Christopher.Lawrence@hq.doe.gov provided above. A copy of each comment should be filed with DOE on or before the date listed above.

Additional copies of such comments shall be filed with: Mr. Joseph Rossignoli Director, U.S. Business Development, GridAmerica Holdings Inc., 40 Sylvan Road, Waltham, MA 02451, Joseph.Rossignoli@nationalgrid.com and Mr. Timothy Roskelley, Anderson & Kreiger LLP, 50 Milk Street, Boston, MA 02109, roskelley@andersonkreiger.com.

Before a Presidential permit may be issued or amended, DOE must determine that the proposed action is in the public interest. In making that determination, DOE may consider the environmental impacts of the proposed project; the project's impact on electric reliability by ascertaining whether the proposed project would adversely affect the operation of the U.S. electric power supply system under normal and contingency conditions; and any other factors that DOE may also deem relevant to the public interest. Also, DOE must obtain the concurrences of the Secretary of State and the Secretary of Defense before taking final action on a Presidential permit application.

Copies of this application will be made available, upon request, for public inspection and copying at the address provided above, by accessing the program website at http://energy.gov/oe/services/electricity-policy-coordination-and-implementation/international-electricity-regulatio-2.

Issued in Washington, DC, on February 23, 2018.
Christopher A. Lawrence,
Electricity Policy Analyst, National Electricity Delivery Division, Office of Electricity Delivery and Energy Reliability.

[FR Doc. 2018-04285 Filed 3-1-18; 8:45 am]

BILLING CODE 6450-01-P